DEPARTMENT OF COMMERCE

National Oceanic and Atmospheric Administration

[I.D. 111605B]

New England Fishery Management Council; Public Meeting

AGENCY: National Marine Fisheries Service (NMFS), National Oceanic and Atmospheric Administration (NOAA), Commerce.

ACTION: Notice; committee meeting.

SUMMARY: The New England Fishery Management Council's (Council) Groundfish Oversight Committee will meet to consider actions affecting New England fisheries in the exclusive economic zone (EEZ).

DATES: The meeting will be held on Wednesday, December 7, 2005, from 9:30 a.m. to 5 p.m.

ADDRESSES: Meeting address:

The meeting will be held at the Holiday Inn, 300 Woodbury Ave., Portsmouth, NH, 03801; telephone: (603)431-8000.

Council address: New England Fishery Management Council, 50 Water Street, Mill 2, Newburyport, MA 01950.

FOR FURTHER INFORMATION CONTACT: Paul J. Howard, Executive Director, New England Fishery Management Council; telephone: (978)465-0492.

SUPPLEMENTARY INFORMATION: The items of discussion in the committee's agenda are as follows:

Agenda for Wednesday, December 7, 2005

1. The Groundfish Advisory Panel (Panel) will meet to review management measures proposed for Framework Adjustment 42 (FW 42) to the Northeast Multispecies Fishery Management Plan. FW 42 is being developed to maintain multispecies rebuilding programs adopted in Amendment 13 and includes measures designed to reduce fishing mortality on several stocks, including Gulf of Maine cod, Cape Cod/Gulf of Maine yellowtail flounder, Southern New England/Mid-Atlantic yellowtail flounder, Georges Bank yellowtail flounder, and Georges Bank winter flounder. Measures under consideration include changes to the way days-at-sea are counted, possible additional reductions in allocated days-at-sea, revised possession limits, and changes to recreational measures. The Panel will review proposed measures and will develop recommendations on those measures for consideration to the Groundfish Oversight Committee and Council at a future date.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: November 16, 2005.
Emily Menashes,
Acting Director, Office of Sustainable Fisheries,National Marine Fisheries Service.

[FR Doc. E5-6398 Filed 11-18-05; 8:45 am]

BILLING CODE 3510-22-S